DEPARTMENT OF THE INTERIOR

Bureau of Land Management

[CA-930-06-5870-HN]

Call for Public Nominations of Inholding Properties for Potential Purchase by the Federal Government in the State of California

AGENCY: Bureau of Land Management, Interior.

ACTION: Notice.

SUMMARY: In accordance with the Federal Land Transaction Facilitation Act of 2000 (43 U.S.C. 2303) (FLTFA), this notice provides the public the opportunity to nominate inholding properties within the State of California for possible acquisition by the Federal agencies identified below.

DATES: Nominations may be submitted at any time following the publication of this notice.

ADDRESSES: Nominations should be mailed to the attention of the FLTFA Program Manager for the agency listed below having jurisdiction over the adjacent Federally designated area.

Bureau of Land Management, 2800 Cottage Way, Room W-1834, Sacramento, CA 95825.

National Park Service, PWR-LP, 1111 Jackson Street, Suite 700, Oakland, CA 94607-4807.

U.S. Forest Service, 1323 Club Drive, Vallejo, CA 94592.

U.S. Fish and Wildlife Service, California/Nevada Operations Office, 2800 Cottage Way, W-2606, Sacramento, CA 95825.

FOR FURTHER INFORMATION CONTACT: Joy Wehking, FLTFA Program Manager, BLM California State Office, phone 916-978-4647; e-mail cafltfaprog@ca.blm.gov, or visit BLM's Web site at http://www.ca.blm.gov/pa/lands/fltfa.

SUPPLEMENTARY INFORMATION: In accordance with the FLTFA, the four Federal agencies noted above are offering to the public at large the opportunity to nominate lands in the State of California for possible Federal acquisition. Under the provisions of FLTFA, only the following lands are eligible for nomination: (1) Inholdings within a Federally designated area; or (2) lands that are adjacent to Federally designated areas that contain exceptional resources.

An inholding is any right, title, or interest held by a non-Federal entity, in or to a tract of land that lies within the boundary of a Federally designated area.

A Federally designated area is an area, in existence on July 25, 2000, set aside for special management, including units of the national park, national wildlife refuge, and national forest systems; national monuments, national conservation areas, national riparian conservation areas, national recreation areas, national scenic areas, research natural areas, national outstanding natural areas, national natural landmarks, and areas of critical environmental concern managed by the Bureau of Land Management; wilderness or wilderness study areas; and units of the Wild and Scenic Rivers System or National Trails System. If you are not sure of whether a particular area meets the statutory definition in FLTFA, of a Federally designated area, you should consult the statute or contact the BLM as provided above.

Exceptional resource refers to a resource of scientific, natural, historic, cultural or recreational value that has been documented by a Federal, state, or local government authority, and for which there is a compelling need for conservation and protection under the jurisdiction of a Federal agency in order to maintain the resource for the benefit of the public.

Nominations meeting the above criteria may be submitted by any individual, group or governmental body. If submitted by a party other than the landowner, the landowner must also sign the nomination to confirm their willingness to sell. Nominations will only be considered eligible by the agencies if: (1) The nomination package is complete; (2) acquisition of the nominated land or interest in land would be consistent with an agency approved land use plan; (3) the land does not contain a hazardous substance or is not otherwise contaminated and would not be difficult or uneconomic to manage as Federal lands; and (4) acceptable title can be conveyed in accordance with Federal title standards. Priority will be placed on nominations for inholdings in areas where there is no local or tribal government objection to Federal acquisition.

The agencies will assess the nominations for public benefits and rank the nominations in accordance with a jointly prepared state level Interagency Implementation Agreement for FLTFA and a national level Interagency Memorandum of Understanding among the agencies. The nomination and identification of an inholding does not obligate the landowner to convey the property nor does it obligate the United States to acquire the property.

All Federal land acquisitions must be made at fair market value established by applicable provisions of the Uniform Appraisal Standards for Federal Land Acquisitions.

Further information, including the required contents for a nomination package, and details of the Statewide Interagency Implementation Agreement, may be obtained by contacting Joy Wehking with the Bureau of Land Management at the address noted above, or by visiting the California FLTFA Web site at http://www.ca.blm.gov/pa/lands/fltfa.

Mike Pool,
State Director, California.

[FR Doc. E6-3141 Filed 3-6-06; 8:45 am]

BILLING CODE 4310-40-P